DEPARTMENT OF ENERGY

Federal Energy Regulatory Commission

Combined Notice of Filings #1

Take notice that the Commission received the following electric corporate filings:

Docket Numbers: EC24-91-000.

Applicants: Tenaska Virginia Partners, L.P.

Description: Amendment to 06/21/2024 Application for Authorization Under Section 203 of the Federal Power Act of Tenaska Virginia Partners, L.P.

Filed Date: 8/2/24.

Accession Number: 20240802-5168.

Comment Date: 5 p.m. ET 8/12/24.

Take notice that the Commission received the following electric rate filings:

Docket Numbers: ER10-310-007; ER10-2414-021; ER11-113-017; ER11-4694-013; ER12-1680-014; ER17-2084-007; ER20-967-005; ER21-44-007; ER22-937-004; ER22-938-004; ER23-618-003; ER23-1829-002; ER24-1687-001.

Applicants: Carvers Creek LLC, Shady Oaks Wind 2, LLC, Sandy Ridge Wind 2, LLC, New Market Solar ProjectCo 2, LLC, New Market Solar ProjectCo 1, LLC, Altavista Solar, LLC, Great Bay Solar II, LLC, Great Bay Solar 1, LLC, Minonk Wind, LLC, GSG 6, LLC, Sandy Ridge Wind, LLC, Old Trail Wind Farm, LLC, Algonquin Energy Services Inc.

Description: Notice of Non-Material Change in Status of Algonquin Energy Services Inc., et al.

Filed Date: 7/31/24.

Accession Number: 20240731-5270.

Comment Date: 5 p.m. ET 8/21/24.

Docket Numbers: ER10-1852-096; ER11-4462-094; ER10-1951-070; ER17-838-068; ER18-807-013; ER20-2380-009; ER23-853-002; ER23-854-003; ER23-884-003; ER24-817-002.

Applicants: Babbitt Ranch Energy Center, LLC, Sonoran Solar Energy, LLC, Storey Energy Center, LLC, Saint Energy Storage II, LLC, Saint Solar, LLC, Pinal Central Energy Center, LLC, NextEra Energy Marketing, LLC, NextEra Energy Services Massachusetts, LLC, NEPM II, LLC, Florida Power & Light Company.

Description: Notice of Change in Status of Florida Power & Light Company, et al.

Filed Date: 7/30/24.

Accession Number: 20240730-5209.

Comment Date: 5 p.m. ET 8/20/24.

Docket Numbers: ER22-2190-003; ER13-1816-023; ER14-1594-008; ER14-1596-008; ER14-1934-009; ER14-1935-009; ER15-1020-007; ER20-242-006; ER20-245-006; ER20-246-006; ER22-2191-003; ER22-2192-003.

Applicants: EDPR Scarlet I LLC, EDPR CA Solar Park II LLC, Windhub Solar A, LLC, Sun Streams, LLC, Sunshine Valley Solar, LLC, Rising Tree Wind Farm III LLC, Rising Tree Wind Farm II LLC, Rising Tree Wind Farm LLC, Lone Valley Solar Park II LLC, Lone Valley Solar Park I LLC, Sustaining Power Solutions LLC, EDPR CA Solar Park LLC.

Description: Notice of Change in Status of EDPR CA Solar Park LLC et al.

Filed Date: 7/30/24.

Accession Number: 20240730-5206.

Comment Date: 5 p.m. ET 8/20/24.

Docket Numbers: ER24-2694-000.

Applicants: PJM Interconnection, L.L.C.

Description: § 205(d) Rate Filing: Amended ISA, Service Agreement No. 6812; AE1-146 to be effective 10/2/2024.

Filed Date: 8/2/24.

Accession Number: 20240802-5132.

Comment Date: 5 p.m. ET 8/23/24.

Docket Numbers: ER24-2695-000.

Applicants: NSTAR Electric Company.

Description: Tariff Amendment: Cancellation—Hingham Municipal Lighting Plant Design and Engineering Agreement to be effective 8/5/2024.

Filed Date: 8/2/24.

Accession Number: 20240802-5139.

Comment Date: 5 p.m. ET 8/23/24.

Docket Numbers: ER24-2696-000.

Applicants: Idaho Power Company.

Description: § 205(d) Rate Filing: RS 177—Kuna BESS LLC—Procurement Agreement to be effective 10/18/2023.

Filed Date: 8/2/24.

Accession Number: 20240802-5154.

Comment Date: 5 p.m. ET 8/23/24.

Docket Numbers: ER24-2697-000.

Applicants: Maple Analytics, LLC.

Description: Notice of Cancellation of Market Based Rate Tariff of Maple Analytics, LLC.

Filed Date: 7/31/24.

Accession Number: 20240731-5272.

Comment Date: 5 p.m. ET 8/21/24.

Docket Numbers: ER24-2698-000.

Applicants: Big Shoulders Storage, LLC.

Description: Petition for Limited Waiver of Big Shoulders Storage, LLC.

Filed Date: 8/2/24.

Accession Number: 20240802-5170.

Comment Date: 5 p.m. ET 8/23/24.

Docket Numbers: ER24-2700-000.

Applicants: Antelope Valley BESS, LLC.

Description: § 205(d) Rate Filing: Revised Market-Based Rate Tariff to be effective 8/6/2024.

Filed Date: 8/5/24.

Accession Number: 20240805-5070.

Comment Date: 5 p.m. ET 8/26/24.

Docket Numbers: ER24-2701-000.

Applicants: LRE Energy Services, LLC.

Description: § 205(d) Rate Filing: Revised Market-Based Rate Tariff to be effective 8/6/2024.

Filed Date: 8/5/24.

Accession Number: 20240805-5072.

Comment Date: 5 p.m. ET 8/26/24.

Docket Numbers: ER24-2702-000.

Applicants: White Wing Ranch North, LLC.

Description: § 205(d) Rate Filing: Revised Market-Based Rate Tariff to be effective 8/6/2024.

Filed Date: 8/5/24.

Accession Number: 20240805-5076.

Comment Date: 5 p.m. ET 8/26/24.

Docket Numbers: ER24-2703-000.

Applicants: PJM Interconnection, L.L.C.

Description: § 205(d) Rate Filing: Original GIA, Service Agreement No. 7315; AE2-259 to be effective 7/5/2024.

Filed Date: 8/5/24.

Accession Number: 20240805-5121.

Comment Date: 5 p.m. ET 8/26/24.

Docket Numbers: ER24-2704-000.

Applicants: PJM Interconnection, L.L.C.

Description: § 205(d) Rate Filing: Original NSA, Service Agreement No. 7328; AE2-029 to be effective 10/7/2024.

Filed Date: 8/5/24.

Accession Number: 20240805-5141.

Comment Date: 5 p.m. ET 8/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 5, 2024.
Debbie-Anne A. Reese,
Acting Secretary.

[FR Doc. 2024-17743 Filed 8-8-24; 8:45 am]

BILLING CODE 6717-01-P